DEPARTMENT OF COMMERCE

National Oceanic and Atmospheric Administration

RIN: 0648-XX78

Western Pacific Fishery Management Council; Public Meetings

AGENCY: National Marine Fisheries Service (NMFS), National Oceanic and Atmospheric Administration (NOAA), Commerce.

ACTION: Notice of public informational scoping meetings.

SUMMARY: The Western Pacific Fisheries Management Council (Council) will convene public informational scoping meetings in Guam and CNMI to solicit comments on the management of the bottomfish fishery within the EEZ of the Mariana Islands. The scope meeting will, among other things, describe the existing federal management regime for bottomfish species, examine the current performance of the fishery and consider the need for potential regulatory changes.

DATES: Public informational scoping meetings will be held in Saipan, CNMI on August 11, 2010 and in Guam August 13, 2010. See SUPPLEMENTARY INFORMATION for specific dates, times, and locations.

ADDRESSES: Written comments on this issue may be sent to Kitty M. Simonds, Executive Director, Western Pacific Fishery Management Council, 1164 Bishop St., Suite 1400, Honolulu, HI 96813.

Comments may be sent to the Council via facsimile (fax) at (808) 522-8226.

FOR FURTHER INFORMATION CONTACT: Kitty M. Simonds, Executive Director, WPFMC, (808) 522-8220.

SUPPLEMENTARY INFORMATION: Dates, Times, and Locations for Public Informational Scoping Meetings

1. Saipan, CNMI -- Wednesday, August 11, 2010, from 5 p.m. - 9 p.m. at the Saipan Multipurpose Center.

2. Hagatna, Guam -- Friday, August 13, 2010, from 5 p.m. - 9 p.m. at the Guam Fishermen's Cooperative

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: July 21, 2010.
William D. Chappell,
Acting Director, Office of Sustainable Fisheries, National Marine Fisheries Service.

[FR Doc. 2010-18252 Filed 7-23-10; 8:45 am]

BILLING CODE 3510-22-S